DEPARTMENT OF COMMERCE

National Institute of Standards and Technology

Judges Panel of the Malcolm Baldrige National Quality Award

AGENCY: National Institute of Standards and Technology, Department of Commerce.

ACTION: Notice of partially closed meeting.

SUMMARY: The Judges Panel of the Malcolm Baldrige National Quality Award (Judges Panel) will meet on Wednesday, June 10, 2020, from 11:00 a.m. to 4:00 p.m. Eastern time. The purpose of this meeting is to discuss and review the role and responsibilities of the Judges Panel and information received from the National Institute of Standards and Technology (NIST) in order to ensure the integrity of the Malcolm Baldrige National Quality Award (Award) selection process. The agenda will include: Judges Panel roles and processes; Baldrige Program updates; new business/public comment; lessons learned from the 2019 judging process; and the 2020 Award process. A portion of this meeting is closed to the public in order to protect the proprietary data to be examined and discussed.

DATES: The Judges Panel will meet on Wednesday, June 10, 2020 from 11:00 a.m. Eastern Time until 4:00 p.m. Eastern Time. The portion of the meeting that is closed to the public will take place on Wednesday, June 10, 2020 from 2:00 p.m. to 4:00 p.m.

ADDRESSES: The meeting will be a virtual meeting by webinar. Please note admittance instructions under the SUPPLEMENTARY INFORMATION section of this notice.

FOR FURTHER INFORMATION CONTACT: Robert Fangmeyer, Director, Baldrige Performance Excellence Program, by email at robert.fangmeyer@nist.gov, or Robyn Verner at robyn.verner@nist.gov or 301-975-2361.

SUPPLEMENTARY INFORMATION: Pursuant to the Federal Advisory Committee Act, as amended, 5 U.S.C. App., notice is hereby given that the Judges Panel of the Malcolm Baldrige National Quality Award will meet on Wednesday, June 10, 2020 from 11:00 a.m. to 4:00 p.m. Eastern Time. The Judges Panel is composed of twelve members, appointed by the Secretary of Commerce, chosen for their familiarity with quality improvement operations and competitiveness issues of manufacturing companies, service companies, small businesses, nonprofits, health care providers, and educational institutions. The primary purpose of this meeting is to assemble to discuss and review the role and responsibilities of the Judges Panel and information received from NIST in order to ensure the integrity of the Malcolm Baldrige National Quality Award selection process. During the closed session on June 10, 2020 from 2:00 p.m. to 4:00 p.m. the Judges Panel will discuss lessons learned from the 2019 judging process and the 2020 Award process. The agenda may change to accommodate Judges Panel business. The final agenda will be posted on the NIST website at https://www.nist.gov/baldrige/how-baldrige-works/baldrige-community/judges-panel.

The open portion of the meeting from 11:00 a.m. to 2:00 p.m. Eastern Time will include discussions on the Judges Panel roles and processes and Baldrige program updates and is open to the public. Individuals and representatives of organizations who would like to offer comments and suggestions related to the Panel's business are invited to request a place on the agenda. Approximately 30 minutes will be reserved for public comments and speaking times will be assigned on a first-come, first-serve basis. The amount of time per speaker will be determined by the number of requests received but is likely to be about three minutes each. Questions from the public will not be considered during this period. Requests must be submitted by email to Robyn Verner at robyn.verner@nist.gov and must be received by 4:00 p.m. Eastern Time, May 27, 2020 to be considered. Speakers who wish to expand upon their oral statements, those who had wished to speak but could not be accommodated on the agenda, and those who were unable to participate are invited to submit written statements by email to robyn.verner@nist.gov.

Admittance instructions: All participants will be attending via webinar. Please contact Ms. Verner by email at robyn.verner@nist.gov for detailed instructions on how to join the webinar. All requests must be received by 4:00 p.m. Eastern Time, Wednesday, May 27, 2020.

The portion of the meeting from 2:00 p.m. to 4:00 p.m. Eastern Time will include discussions on lessons learned from the 2019 judging process and on the 2020 Award process, and is closed to the public in order to protect the proprietary data to be examined and discussed. The Chief Financial Officer and Assistant Secretary for Administration, with the concurrence of the Assistant General Counsel for Employment, Litigation and Information, formally determined on May 25, 2020, pursuant to Section 10(d) of the Federal Advisory Committee Act, as amended by Section 5(c) of the Government in Sunshine Act, Public Law 94-409, that a portion of the meeting of the Judges Panel may be closed to the public in accordance with 5 U.S.C. 552b(c)(4) because the meeting is likely to disclose trade secrets and commercial or financial information obtained from a person which is privileged or confidential and 5 U.S.C. 552b(c)(9)(B) because for a government agency the meeting is likely to disclose information that could significantly frustrate implementation of a proposed agency action. Portions of the meeting involve examination of prior year Award applicant data. Award applicant data are directly related to the commercial activities and confidential information of the applicants.

Pursuant to 41 CFR 102-3.150(b), this Federal Register notice for this meeting is being published fewer than 15 calendar days prior to the meeting as exceptional circumstances exist due to COVID-19.

Authority: 15 U.S.C. 3711a(d)(1) as amended, and the Federal Advisory Committee Act, as amended, 5 U.S.C. App.

Kevin A. Kimball,
Chief of Staff.

[FR Doc. 2020-11638 Filed 5-29-20; 8:45 am]

BILLING CODE 3510-13-P